DEPARTMENT OF ENERGY

Federal Energy Regulatory Commission

[IC01-556-000, FERC Form 556]

Proposed Information Collection and Request for Comments

January 18, 2001.

AGENCY: Federal Energy Regulatory Commission.

ACTION: Notice of proposed information collection and request for comments.

SUMMARY: In compliance with the requirements of section 3506(c)(2)(a) of the Paperwork Reduction Act of 1995 (Pub. L. No. 104-13), the Federal Energy Regulatory Commission (Commission) is soliciting public comment on the specific aspects of the information collection described below.

DATES: Consideration will be given to comments submitted on or before March 26, 2001.

ADDRESSES: Copies of the proposed collection of information can be obtained from and written comments may be submitted to the Federal Energy Regulatory Commission, Attn: Michael Miller, Office of the Chief Information Officer, CI-1, 888 First Street NE., Washington, DC 20426.

FOR FURTHER INFORMATION CONTACT: Michael Miller may be reached by telephone at (202) 208-1415, by fax at (202) 208-2425, and by e-mail at mike.miller@ferc.fed.us

SUPPLEMENTARY INFORMATION: The information collected under FERC Form 556 “Cogeneration and Small Power Production” (OMB No. 1902-0075) is used by the Commission to implement statutory provisions governed by section 3 of the Federal Power Act (FPA), (16 U.S.C. 792-828c), and sections 201 and 210 of the Public Utility Regulatory Policies Act of 1978 (PURPA). The reporting requirements associated with FERC Form 556 require owners or operations of small power production or cogeneration facilities, who seek qualifying status for their facilities, to file the information requested in Form 556 for Commission certification as a qualifying facility (QF).

A primary objective of PURPA is the conservation of energy through efficient use of energy resources in the generation of electric power. One means of achieving this objective is to encourage electric power production by cogeneration facilities which make use of reject heat associated with commercial or industrial processes, and by small power production facilities which use waste and renewable resources as fuel. PURPA, through the establishment of various regulatory benefits, encourages the development of small power production facilities and cogeneration facilities which meet certain technical and corporate criteria. Facilities that meet these criteria are called QFs.

Owners and operators of small power production and cogeneration facilities desiring QF certification for their facilities must file the information prescribed in FERC 556 with the Commission. In addition to identifying the required filing information, FERC 556 also outlines the QF certification procedure,and specifies the criteria which must be met for QF certification. The Commission's QF regulations are published in 18 CFR 262. Respondents who comply with the Form 556 criteria and are granted QF certification by the Commission are exempt from certain sections of the FPA and the Public Utility Holding Company Act of 1935 as listed in 18 CFR 262.601 and 262.602.

Action: The Commission is requesting a three-year extension of the current expiration date, with no changes to the existing collection of data.

Burden Statement: Public reporting burden for this collection is estimated as:

Number of respondents annually (1) | Number of responses per respondent (2) | Average burden hours per response (3) | Total annual burden hours (1)×(2)×(3)
100 | 1 | 4 | 400.

The estimated total cost to respondents is $22,184, (400 hours divided by 2,080 hours per year per employee times $115,357¹ per year per average employee = $22,184). The cost per respondent is $222. These estimates reflect a reduction in the number of filings submitted to the Commission and an adjustment from its last submission to OMB.

¹ The cost per year per average employee estimate is based on the annual allocated cost per Commission employee for fiscal year 2001. The estimated $115,357 cost consists of approximately $92,286 in salary and $23,071 in benefits and overhead.

The reporting burden includes the total time, effort, or financial resources expended by the respondent to assemble and disseminate the information including: (1) Reviewing the instructions; (2) developing or acquiring appropriate technological support systems needed for purposes of collecting, validating, processing, and disseminating the information; (3) administration; and (4) transmitting, or otherwise disclosing the information.

The cost estimate for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

David P. Boergers,
Secretary.

[FR Doc. 01-2070 Filed 1-23-01; 8:45 am]

BILLING CODE 6717-01-M